ENVIRONMENTAL PROTECTION AGENCY

[EPA-HQ-OAR-2022-0105; FRL-9477-01-OAR]

Proposed Information Collection Request; Comment Request; Recordkeeping and Reporting for the Renewable Fuel Standard Program

AGENCY: Environmental Protection Agency (EPA).

ACTION: Notice.

SUMMARY: The Environmental Protection Agency (EPA) is planning to submit an information collection request (ICR), “Recordkeeping and Reporting for the Renewable Fuel Standard (RFS) Program,” EPA ICR No. 2546.03 OMB Control No. 2060-0725) to the Office of Management and Budget (OMB) for review and approval in accordance with the Paperwork Reduction Act (PRA). Before doing so, EPA is soliciting public comments on specific aspects of the proposed information collection as described below. This is a request for renewal of an existing collection. An Agency may not conduct or sponsor, and a person is not required to respond to, a collection of information unless it displays a currently valid OMB control number.

DATES: Comments must be submitted on or before April 12, 2022.

ADDRESSES: You may send comments, identified by Docket ID No EPA-HQ-OAR-2022-0105, by any of the following methods:

• Federal eRulemaking Portal: Submit your comments at https://www.regulations.gov (our preferred method). Follow the online instructions for submitting comments.

• Email: Email your comments to a-and-r-Docket@epa.gov. Include Docket ID No. EPA-HQ-OAR-2022-0105 in the subject line of the message.

• Mail: U.S. Environmental Protection Agency, EPA Docket Center, Air & Radiation Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Instructions: All submissions received must include the Docket ID No. for this notice. Comments received may be posted without change to https://www.regulations.gov, including any personal information provided. For detailed instructions on sending comments and additional information on this action, see the SUPPLEMENTARY INFORMATION section of this document. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov or email, as there may be a delay in processing mail and faxes. Hand deliveries and couriers may be received by scheduled appointment only. For further information on EPA Docket Center services and the status, please visit us online at https://www.epa.gov/dockets.

FOR FURTHER INFORMATION CONTACT: Anne-Marie Pastorkovich, Environmental Protection Agency, telephone number: 202-343-9623; email address: pastorkovich.anne-marie@epa.gov.

SUPPLEMENTARY INFORMATION: Supporting documents (which explain in detail the information that the EPA will be collecting) are available in the public docket for this ICR. The docket can be viewed online at www.regulations.gov or in person as described in the ADDRESSES section. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

This ICR package is a renewal of an existing collection, “Recordkeeping and Reporting for the Renewable Fuel Standard Program,” OMB Control Number 2060-0725, expiring August 31, 2022. The RFS regulations are in 40 CFR part 80, subpart M. Because it is more efficient and easier for regulated parties to understand, we seek to consolidate the following approved ICRs into this collection:

• Modifications to Fuel Regulations to Provide Flexibility for E15; Modifications to RFS RIN Market Regulations (Final Rule), OMB Control Number 2060-0723, expiring November 30, 2022; and

• Renewable Fuel Standard Program: Standards for 2020 and Biomass-Based Diesel Volume for 2021, Response to the Remand of the 2016 Standards, and Other Changes (Final Rule), OMB Control Number 2060-0728, expiring December 31, 2023.

When this ICR renewal of 2060-0725 is complete, and once it is approved by OMB, we will seek to cancel 2060-0723 and 2060-0728, as they will no longer be necessary.

What is the RFS program?

The RFS program was created under the Energy Policy Act of 2005 (EPAct), which amended the Clean Air Act (CAA). The Energy Independence and Security Act of 2007 (EISA) further amended the CAA by expanding the RFS program. EPA implements RFS in consultation with U.S. Department of Agriculture and the Department of Energy. The RFS program is a national policy that requires a certain volume of renewable fuel to replace or reduce the quantity of petroleum-based transportation fuel, heating oil or jet fuel.

Obligated parties under the RFS program are refiners or importers of gasoline or diesel fuel. Obligated parties, and exporters of renewable fuel, must meet an annual Renewable Volume Obligation (RVO). Parties meet their RVO by blending renewable fuels into transportation fuel, or by obtaining credits (called “Renewable Identification Numbers”, or RINs). EPA calculates and establishes RVOs every year through rulemaking, based on the CAA volume requirements and projections of gasoline and diesel production for the coming year. The standards are converted into a percentage and obligated parties must demonstrate compliance annually. RINs are the credits that obligated parties use to demonstrate compliance with the standard. RINS are generated by producers and importers of renewable fuels and traded by various parties. Obligated parties must obtain sufficient RINs for each category to demonstrate compliance with the annual standard.

To track compliance with the RFS program, various parties involved with the production and blending of renewable fuels, and who generate, trade, or use RINs, must register with EPA, and submit various types of compliance reports related to the activity they engage in under the program. Our estimates as to burden are explained in the supporting statement that has been placed in the public docket. Domestic and foreign entities may be subject to these regulations and to the associated information collection. The RFS program was developed with certain flexibilities, including for small entities such as small refiners and small refineries, small blenders, and small volume production facilities and importers.

What are the recordkeeping and reporting requirements associated with the RFS program?

The reporting requirements of the RFS program typically fall under registration and compliance reporting. Recordkeeping requirements include product transfer documents (PTDs) and retention of records that support items reported. Recordkeeping and reporting are based upon the role the party fills under the regulations. A party may be registered in more than one role. Basing the recordkeeping and reporting upon a party's roles in the program ensures that parties must sustain only the burden necessary under the program. EPA continuously assesses its registration and reporting systems to provide the best possible service to the regulated community and to enhance, simplify, and streamline the experience. Because RFS relies upon a marketplace of RINs, EPA has created and maintains the EPA Moderated Transaction System (EMTS) capable of handling a high volume of RIN trading activities.

Who are the respondents for the RFS program?

The respondents to this ICR are: RIN Generators (producers and importers of renewable fuel), Obligated Parties (refiners and importers of gasoline and diesel), Exporters (of renewable fuel), RIN Owners, independent third-party Quality Assurance Plan (QAP) Providers, Third Parties (Auditors who submit reports on behalf of other respondents), and certain petitioners under the international aggregate compliance approach (such petitions are infrequent). These parties and their associated information collections are described in detail in the supporting statement and tables, which have been placed in the docket.

Form Numbers:

• RFS010X: RFS Activity Report—versions RFS0104, RFS0105, and RFS 0106

• RFS030X: RFS Annual Compliance Report, versions RFS0303, RFS0304

• RFS500: Redesignation of Non-Transportation Distillate Fuel (NTDF) as or to Motor Vehicle Non-Road Locomotive Marine (MVRNLM) Diesel Fuel

• RFS0601: RFS Renewable Fuel Producer Supplemental Report

• RFS0701: RFS Renewable Fuel Producer Co-Products Report

• RFS0801: RFS Renewable Biomass Report

• RFS0901: RFS Production Outlook Report

• RFS1000: Report for RIN Generating Advanced Fuel Producers and Importers using Grain Sorghum as a Feedstock

• RFS1200: Invasive Species Reporting

• RFS1300: Producers of Renewable Fuel using Crop Residue as a Feedstock form

• RFS1400: Reporting Fuels under 80.1451(b)(1)(ii)(T)

• RFS1500: Reporting Fuels under 80.1451(b)(1)(ii)(T)—Finished Fuel Blending,

• RFS1600: Reporting Fuels under 80.1451(b)(1)(ii)(T)—Blender Contact

• RFS2000: Batch Verification

• RFS2100: Aggregate RIN Verification.

• RFS2200: On-Site Audit Report

• RFS2300: List of Potentially Invalid RINs

• RFS2400: Mass Balance

• RFS2500: RFS Efficient Producer Data Report

• RFS2700: RFS Cellulosic Biofuel Producer Questionnaire

• ATT010X: Attest Engagement Form ATT0100 and ATT0100-ALT

• Cellulosic Waiver Credit Form

• URF (unified reporting format; the format used to fill out most RFS forms)

Reporting using templates or that occurs within systems; with system user guides listed:

• EMTS: RFS RIN Generation Report ¹

¹ This reporting is done entirely within the EPA Moderated Transaction System (EMTS); descriptive system information has been docketed and will be submitted to OMB with the ICR.

• EMTS: RFS RIN Transaction Report ²

² Id.

• Engineering Review Template

• OTAQ Reg (Registration System) User Guide

• User Guide for DCFUEL in EPA's Central Data Exchange

• Quick Start Guide for Registration for DCFUEL in EPA's Central Data Exchange

• Quick Start Guide for Report Submission for DCFUEL in EPA's Central Data Exchange

Respondents/affected entities: RIN Generators, Obligated Parties, RIN Owners, Exporters, QAP Providers, Third Parties (Auditors) and Petitioners under the international aggregate compliance approach. These parties include producers and importers of renewable fuels and refiners and importers of gasoline and diesel transportation fuels.

Respondent's obligation to respond: The RFS program represents a mixture of voluntary and mandatory reporting, depending upon activity. A single party may register with multiple program roles—e.g., a party might be both an obligated party and a RIN owner.

Estimated number of respondents: 45,473.

Frequency of response: On occasion/daily, quarterly, annual.

Total estimated burden: 859,218 hours. Burden is defined at 5 CFR 1320.03(b).

Total estimated cost: The total cost (labor and non-labor) is $78,703,548, of which $16,428,454 is non-labor costs (all of which are purchased services).

Changes in Estimates: There is a decrease in 68,670 hours in the total estimated respondent burden compared with the ICR(s) ³ currently approved by OMB. This decrease is due to several factors, including a change in the number of respondents and certain, one-time requirements that have now been accomplished by respondents (e.g., one-time programming to comply with reporting; initial registration of certain respondents).

³ The total hours for the currently approved ICRs 2060-0723, 2060-0725, and 2060-0728 is 927,888 hours. These are the ICRs to be consolidated in this renewal of 2060-0725. The total for this proposed renewal is 859,218. The difference is, therefore, a reduction of 68,670 hours.

Byron J. Bunker,
Director, Compliance Division, Office of Transportation & Air Quality, Office of Air & Radiation.

[FR Doc. 2022-02901 Filed 2-10-22; 8:45 am]

BILLING CODE 6560-50-P